DEPARTMENT OF TRANSPORTATION

Federal Motor Carrier Safety Administration

[Docket No. FMCSA-2011-0057]

Qualification of Drivers; Exemption Applications; Vision

AGENCY: Federal Motor Carrier Safety Administration (FMCSA), DOT.

ACTION: Notice of applications for exemptions; request for comments.

SUMMARY: FMCSA announces receipt of applications from 16 individuals for exemption from the vision requirement in the Federal Motor Carrier Safety Regulations. If granted, the exemptions would enable these individuals to qualify as drivers of commercial motor vehicles (CMVs) in interstate commerce without meeting the Federal vision standard.

DATES: Comments must be received on or before May 5, 2011.

ADDRESSES: You may submit comments bearing the Federal Docket Management System (FDMS) Docket No. FMCSA-2011-0057 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 16 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Melvin T. Ayer

Mr. Ayer, age 57, has had an inferior temporal visual field defect in his left eye since 2007. The best corrected visual acuity in his right eye is 20/20 and in his left eye, 20/20. Following an examination in 2010, his optometrist noted, “Based on Mr. Ayer's report of no history of problems with his commercial driving and his stable ocular findings, he appears to have sufficient vision to perform driving tasks required to operate a commercial vehicle.” Mr. Ayer reported that he has driven tractor-trailer combinations for 16 years, accumulating 1.1 million miles. He holds a Class A CDL from Kentucky. His driving record for the last 3 years shows no crashes and no convictions for moving violations in a CMV.

Luis A. Bejarono

Mr. Bejarono, 41, has a large corneal scar and retinal detachment in his left eye due to an accident that occurred 5 years ago. The visual acuity in his right eye is 20/20 and in his left eye, light perception. Following an examination in 2010, his ophthalmologist noted, “In my medical opinion, Mr. Bejarono has sufficient vision to perform driving tasks required to operate a commercial vehicle.” Mr. Bejarono reported that he has driven tractor-trailer combinations for 8 years, accumulating 400,000 miles. He holds a Class A CDL from Arizona. His driving record for the last 3 years shows no crashes and no convictions for moving violations in a CMV.

Richard T. Berendt

Mr. Berendt, 60, has had a macular hole in his left eye since 1997. The best corrected visual acuity in his right eye is 20/20 and in his left eye, 20/70. Following an examination in 2010, his optometrist noted, “It is my medical opinion that Mr. Berendt has sufficient vision to perform the driving tasks required to operate a commercial vehicle.” Mr. Berendt reported that he has driven straight trucks for 20 years, accumulating 312,000 miles and tractor-trailer combinations for 14 years accumulating 2 million miles. He holds a Class A CDL from Ohio. His driving record for the last 3 years shows one crash for which he was not cited and two convictions for speeding in a CMV. In the first incident, he exceeded the speed limit by 4 miles per hour (MPH), in the second incident, he exceeded the speed limit by 10 mph.

James O. Cook

Mr. Cook, 62, has a central scar in his left eye due to a traumatic injury that occurred in 1967. The visual acuity in his right eye is 20/20 and in his left eye 20/400. Following an examination in 2010, his ophthalmologist noted, “In my opinion, Mr. Cook meets all applicable requirements to drive a commercial vehicle. Therefore there should be no issue in Mr. Cook retaining commercial driving privileges.” Mr. Cook reported that he has driven straight trucks for 5 years, accumulating 350,000 miles and tractor-trailer combinations for 28 years accumulating 3.4 million miles. He holds a Class A CDL from Georgia. His driving record for the last 3 years shows no crashes and no convictions for moving violations in a CMV.

Timothy J. Curran

Mr. Curran, 42, has refractive Amblyopia in his right eye since birth. The best corrected visual acuity in his right eye is 20/60 and in his left eye, 20/20. Following an examination in 2010, his ophthalmologist noted, “In my opinion, Mr. Curran has adequate visual function to operate a commercial vehicle.” Mr. Curran reported that he has driven straight trucks for 8 years, accumulating 83,200 miles and tractor-trailer combinations for 10 years accumulating 156,000 miles. He holds a Class A CDL from California. His driving record for the last 3 years shows no crashes and no convictions for moving violations in a CMV.

Alfred D. Hewitt

Mr. Hewitt, 57, has had a prosthetic right eye since 2004. The best corrected visual acuity in his left eye is 20/15. Following an examination in 2010, his ophthalmologist noted, “In my medical opinion he has sufficient vision to operate a commercial vehicle.” Mr. Hewitt reported that he has driven tractor-trailer combinations for 38 years, accumulating 1.9 million miles. He holds a Class A CDL from Illinois. His driving record for the last 3 years shows no crashes and no convictions for moving violations in a CMV.

Mark A. Kleinow

Mr. Kleinow, 54, has central scarring due to central serious retinopathy. The best corrected visual acuity in his right eye is 20/20 and in his left eye, 20/50. Following an examination in 2010, his optometrist noted, “Patient/applicant has sufficient vision to perform the driving task required to operate a commercial vehicle.” Mr. Kleinow reported that he has driven straight trucks for 30 years, accumulating 5.6 million miles. He holds a Class B CDL from Iowa. His driving record for the last 3 years shows no crashes and no convictions for moving violations in a CMV.

Luke R. Lafley

Mr. Lafley, 42, has complete loss of vision in his left eye due to a traumatic injury that occurred in 1978. The visual acuity in his right eye is 20/15. Following an examination in 2010, his optometrist noted, “I feel the vision deficiency of having one eye does not prohibit operation of a motor vehicle and Mr. Lafley's vision is adequate to drive commercial motor vehicles.” Mr. Lafley reported that he has driven straight trucks for 26 years, accumulating 780,000 miles and tractor-trailer combinations for 8 years accumulating 560,000 miles. He holds a Class C operator's license from Washington. His driving record for the last 3 years shows no crashes and no convictions for moving violations in a CMV.

Kevin R. Lambert

Mr. Lambert, 47, has had complete loss of vision in his right eye due to a traumatic injury that occurred in 1999. The best corrected visual acuity in his left eye is 20/25. Following an examination in 2010, his ophthalmologist noted, “In my professional opinion, with the aid of the correction lenses that are prescribed, Mr. Lambert will have sufficient vision to perform driving tasks required to operate a commercial vehicle.” Mr. Lambert reported that he has driven tractor-trailer combinations for 18 years, accumulating 2.5 million miles. He holds a Class A CDL from North Carolina. His driving record for the last 3 years shows no crashes and no convictions for moving violations in a CMV.

James P. Lanigan

Mr. Lanigan, 56, has had histoplasmosis in his left eye since 6 years ago. The best corrected visual acuity in his right eye is 20/20 and in his left eye, 20/200. Following an examination in 2011, his optometrist noted, “He has a successful 20-year history of commercial driving and his visual status has not affected his ability to perform his job.” Mr. Lanigan reported that he has driven straight trucks for 17 years, accumulating 544,000 miles and tractor-trailer combinations for 1 year accumulating 5,000 miles. He holds a Class A CDL from Ohio. His driving record for the last 3 years shows no crashes and no convictions for moving violations in a CMV.

Nusret Odzakovic

Mr. Odzakovic, 37, has had concussive optic nerve atrophy in his right eye since 1994. The best corrected visual acuity in his right eye is 20/200 and in his left eye, 20/20. Following an examination in 2010, his optometrist noted, “It is our medical opinion that Mr. Odzakovic continues to have sufficient visual capabilities to perform the driving tasks associated with operating a commercial vehicle.” Mr. Odzakovic reported that he has driven straight trucks for 3 years, accumulating 180,000 miles and tractor-trailer combinations for 8 years accumulating 120,000 miles. He holds a Class A CDL from Florida. His driving record for the last 3 years shows no crashes and no convictions for moving violations in a CMV.

Scott W. Schilling

Mr. Schilling, 38, has had a prosthetic left eye due to a traumatic incident that occurred in 1983. The visual acuity in his right eye is 20/20. Following an examination in 2011, his optometrist noted, “I certify in my medical opinion that Scott has sufficient vision to perform driving tasks required to operate a commercial vehicle.” Mr. Schilling reported that he has driven tractor-trailer combinations for 3 years, accumulating 195,000 miles. He holds a Class A CDL from North Dakota. His driving record for the last 3 years shows no crashes and no convictions for moving violations in a CMV.

Randy E. Sims

Mr. Sims, 58, has a choroidal rupture in his left eye due to a retinal injury sustained in 1962. The best corrected visual acuity in his right eye is 20/20 and in his left eye, 20/70. Following an examination in 2011, his ophthalmologist noted, “I believe his vision is sufficient to operate a commercial vehicle.” Mr. Sims reported that he has driven straight trucks for 5 years, accumulating 260,000 miles and tractor-trailer combinations for 26 years accumulating 2 million miles. He holds a Class A CDL from Washington. His driving record for the last 3 years shows no crashes and no convictions for moving violations in a CMV.

Halman Smith

Mr. Smith, 53, has complete loss of vision in his left eye due to traumatic optic neuropathy since age 27. The visual acuity in his right eye is 20/20. Following an examination in 2010, his optometrist noted, “Based on my exam findings and current laws regulating driver's licensure, Mr. Smith has sufficient vision to perform the driving tasks needed to operate a commercial vehicle.” Mr. Smith reported that he has driven straight trucks for 14 years, 700,000 miles. He holds a Class B CDL from Delaware. His driving record for the last 3 years shows no crashes but three convictions for moving violations in a CMV; one conviction was for an improper lane change and the other two convictions were for speeding in a CMV, in both speeding incidents, he exceeded the speed limit by 5 mph.

Robert D. Smith

Mr. Smith, 52, has had amblyopia in his right eye since childhood. The best corrected visual acuity in his right eye is 20/200 and in his left eye, 20/20. Following an examination in 2010, his optometrist noted, “Robert has been driving commercially for a number of years, has been a patient here for over a decade, and I see no reason why he should not be able to continue to drive.” Mr. Smith reported that he has driven straight trucks for 17 years, accumulating 1.3 million miles and tractor-trailer combinations for 17 years accumulating 10,200 miles. He holds a Class A CDL from Ohio. His driving record for the last 3 years shows no crashes and no convictions for moving violations in a CMV.

Richard D. Williams

Mr. Williams, 55, has had loss of vision in his right eye since 2006. The best corrected visual acuity in his right eye is 20/60 and in his left eye, 20/20. Following an examination in 2011, his optometrist noted, “In light of the fact that his left eye has perfect 20/20 vision and that he does have a history of decreased vision in the right eye for the past several years, I do feel that he has adapted well to the situation and I have no concerns in his ability to drive a commercial vehicle.” Mr. Williams reported that he has driven straight trucks for 35 years, accumulating 2.6 million miles, tractor-trailer combinations for 20 years accumulating 1.5 million miles and buses for 5 years, accumulating 62,500 miles. He holds a Class D operator's license from Oklahoma. His driving record for the last 3 years shows no crashes and no convictions for moving violations in a CMV.

Request for Comments

In accordance with 49 U.S.C. 31136(e) and 31315, FMCSA requests public comment from all interested persons on the exemption petitions described in this notice. The Agency will consider all comments received before the close of business May 5, 2011. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: March 29, 2011.
Larry W. Minor,
Associate Administrator for Policy.

[FR Doc. 2011-7959 Filed 4-4-11; 8:45 am]

BILLING CODE 4910-EX-P